DEPARTMENT OF HOUSING AND URBAN DEVELOPMENT

24 CFR Part 1000

[Docket No. FR-5650-N-03]

Indian Housing Block Grant Allocation Formula: Notice of Proposed Negotiated Rulemaking Committee Membership

AGENCY: Office of the Assistant Secretary for Public and Indian Housing, HUD.

ACTION: Notice of proposed negotiated rulemaking committee membership.

SUMMARY: On September 18, 2012, HUD published a document in the Federal Register requesting nominations for membership on the negotiated rulemaking committee that will develop regulatory changes to the funding formula for the Indian Housing Block Grant program authorized by the Native American Housing Assistance and Self-Determination Act of 1996 (NAHASDA). In accordance with section 564 of the Negotiated Rulemaking Act, this document establishes the committee, announces the names and affiliations of the committee's proposed members, requests public comment on the committee and its proposed membership, explains how additional nominations for committee membership may be submitted, and provides other information regarding the negotiated rulemaking process.

DATES: Comment Due Date: July 12, 2013.

ADDRESSES: Interested persons are invited to submit comments regarding this notice to the Regulations Division, Office of General Counsel, Department of Housing and Urban Development, 451 7th Street SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (fax) comments are not acceptable. Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number via TTY by calling the Federal Relay Service at 800-877-8339. Copies of all comments submitted are available for inspection and downloading at www.regulations.gov.

FOR FURTHER INFORMATION CONTACT: Rodger Boyd, Deputy Assistant Secretary for Native American Programs, Room 4126, Office of Public and Indian Housing, Department of Housing and Urban Development, 451 7th Street SW., Washington, DC 20410, telephone number: 202-401-7914 (this is not a toll-free number). Hearing- or speech-impaired individuals may access this number via TTY by calling the toll-free Federal Relay Service at 1-800-877-8339.

SUPPLEMENTARY INFORMATION:

I. Background

The Native American Housing Assistance and Self-Determination Act of 1996 (25 U.S.C. 4101 et seq.) (NAHASDA) changed the way that housing assistance is provided to Native Americans. NAHASDA eliminated several separate assistance programs and replaced them with a single block grant program, known as the Indian Housing Block Grant (IHBG) program. In addition, title VI of NAHASDA authorizes federal guarantees for financing of certain tribal activities (Title VI Loan Guarantee program). The regulations governing the IHBG and Title VI Loan Guarantee programs are located in part 1000 of HUD's regulations in title 24 of the Code of Federal Regulations. In accordance with section 106 of NAHASDA, HUD developed the regulations with active tribal participation, using the procedures of the Negotiated Rulemaking Act of 1996 (5 U.S.C. 561-570).

Under the IHBG program, HUD makes assistance available to eligible Indian tribes for affordable housing activities. The amount of assistance made available to each Indian tribe is determined using a formula that was developed as part of a prior NAHASDA negotiated rulemaking process. A regulatory description of the allocation formula under the IHBG program is located in Subpart D of 24 CFR part 1000. In general, the amount of funding for a tribe is the sum of the formula's need component and the Formula Current Assisted Stock (FCAS) component, subject to a minimum funding amount authorized under the regulations. Based on the amount of funding appropriated annually for the IHBG program, HUD calculates the annual grant for each Indian tribe, and provides this information to the Indian tribes. An Indian Housing Plan for the Indian tribe is then submitted to HUD. If the Indian Housing Plan is found to be in compliance with statutory and regulatory requirements, the grant is made.

II. The Negotiated Rulemaking Committee

This notice announces the proposed membership of the negotiated rulemaking committee. In making its proposed selections for membership on the negotiated rulemaking committee, HUD's goal was to establish a committee whose membership reflects a balanced representation of Indian tribes. Selections were based on those nominees who met the eligibility criteria for membership contained in the September 18, 2012, Federal Register notice (77 FR 57544). HUD is satisfied that the proposed membership reflects a geographically diverse cross-section of small, medium, and large Indian tribes. In addition to the tribal members of the committee, there will be one or more HUD representatives on the negotiated rulemaking committee. After careful consideration of the public comments received on this proposed list of committee members, HUD will announce the final composition of the negotiated rulemaking committee in a subsequent Federal Register notice.

HUD proposes to make the following (23) selections for tribal membership on the negotiated rulemaking committee:

Jason Adams, Executive Director, Salish-Kootenai Housing Authority, Pablo, Montana.

Annette Bryan, Executive Director, Puyallup Housing Authority, Tacoma, Washington.

Heather Cloud, Representative, Ho-Chunk Nation, Tomah, Wisconsin.

Gary Cooper, Executive Director, Cherokee Nation, Tahlequah, Oklahoma

Pete Delgado, Executive Director, Tohono O'odham Housing Authority, Sells, Arizona.

Sami Jo Difuntorum, Executive Director, Siletz Tribal Housing Department, Siletz, Oregon.

Jason Dollarhide, Second Chief, Peoria Tribe of Indians, Miami, Oklahoma.

Earl Evans, Councilor, Haliwa-Saponi Tribe, Hollister, North Carolina.

Karin Lee Foster, Legal Counsel, Yakama Housing Authority, Yakima, Washington.

Carol Gore, President/CEO, Cook Inlet Housing Authority, Anchorage, Alaska.

Lafe Haugen, Executive Director, Northern Cheyenne Housing Authority, Lame Deer, Montana.

Richard Hill, General Manager, Mille Lacs Housing Authority, Onamia, Minnesota.

Leon Jacobs, Representative, Lumbee Tribe, Pembroke, North Carolina.

Teri Nutter, Executive Director, Cooper River Basin Regional Housing Authority, Glennallen, Alaska.

Sam Okakok, Housing Director, Barrow, Alaska.

Diana Phair, Executive Director, Lummi Nation, Bellingham, Washington.

Michael Reed, CEO, Cocopah Indian Housing and Development, Somerton, Arizona.

Jack Sawyers, Special Projects, Paiute Tribe of Utah, Cedar City, Utah.

Marty Shuravloff, Executive Director, Kodiak Island Housing Authority, Kodiak, Alaska.

Russell Sossamon, Executive Director, Choctaw Housing Authority, Hugo, Oklahoma.

Michael Thom, Vice Chair, Karuk Tribe, Happy Camp, California.

Sharon Vogel, Executive Director, Cheyenne River Housing Authority, Eagle Butte, South Dakota.

Aneva Yazzie, CEO, Navajo Housing Authority, Window Rock, Arizona.

III. Request for Comments and Committee Nominations

Persons may submit comments on HUD's establishment of the formula negotiating rulemaking committee and may submit additional nominations for committee membership in accordance with the ADDRESSES section above. Nominations for membership on the Committee must include:

1. The name of your nominee and a description of the interests the nominee would represent;

2. Evidence that your nominee is authorized to represent a tribal government, which may include the tribally designated housing entity of a tribe, with the interests the nominee would represent, so long as the tribe provides evidence that it authorizes such representation;

3. A written commitment that the nominee will actively participate in good faith in the development of the rule; and

4. The reasons that the persons proposed above do not adequately represent the interests of the person submitting the nomination.

IV. Committee Meetings

At this time, HUD has not finalized the schedule and agenda for the committee meetings. HUD will provide administrative support to the committee. Notice of committee meetings will be published in the Federal Register. Meetings of the negotiated rulemaking committee will be open to the public without advance registration. Public attendance may be limited to the space available. Members of the public will be provided with an opportunity to make statements during the meeting, to the extent that time permits, and to file written statements with the committee for its consideration. In the event that the logistics of the committee meetings are changed, HUD will advise the public through Federal Register notice.

Dated: June 5, 2013.
Sandra B. Henriquez,
Assistant Secretary for Public and Indian Housing.

[FR Doc. 2013-13984 Filed 6-11-13; 8:45 am]

BILLING CODE 4210-67-P